DEPARTMENT OF ENERGY

Federal Energy Regulatory Commission

[Docket No. RD20-3-000]

Commission Information Collection Activities FERC-725N Comment Request; Extension

AGENCY: Federal Energy Regulatory Commission.

ACTION: Notice of information collection and request for comments.

SUMMARY: In compliance with the requirements of the Paperwork Reduction Act of 1995, the Federal Energy Regulatory Commission (Commission or FERC) is soliciting public comment on the proposedinformation collection FERC-725N (Mandatory Reliability TPL Standards: TPL-007-4, (Transmission System Planned Performance for Geomagnetic Disturbance Events)) and submitting the information collection to the Office of Management and Budget (OMB) for review. Any interested person may file comments directly with OMB and should address a copy of those comments to the Commission as explained below.

DATES: Comments on the collection of information are due August 6, 2020.

ADDRESSES: Comments filed with OMB, identified by OMB Control No. 1902-0264. Send written comments on FERC-725N to OMB thru www.reginfo.gov/public/do/PRAMain. Attention Federal Energy Regulatory Commission Desk Officer. Please identify the OMB control Number (1902-0264) in the submect line of your comments should be sent within 30 days of publication of this notice to www.reginfo.gov/public/do/PRAMain. Using the search function under the Currently Under Review field select comment to the right of the subject collection. A copy of the comments should also be sent to the Commission, in Docket No. RD20-3-000) by either of the following methods:

• eFiling at Commission's Website: http://www.ferc.gov/docs-filing/efiling.asp.

• Mail/Express Services: Persons unable to file electronically may mail similar pleadings to the Federal Energy Regulatory Commission, 888 First Street NE, Washington, DC 20426. Hand delivered submissions in docketed proceedings should be delivered to Health and Human Services, 12225 Wilkins Avenue, Rockville, Maryland 20852.

Instructions: OMB submissions must be formatted and filed in accordance with submission guidelines at: www.reginfo.gov/public/do/PRAMain; using the search function under the Currently Under Review field select Federal Energy Regulatory Commission; click submit and select comment to the right of the subject collection. FERC submissions must be formatted and filed in accordance with submission guidelines at: http://www.ferc.gov/help/submission-guide.asp. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663.

SUPPLEMENTARY INFORMATION: Title: FERC-725N, Mandatory Reliability Standards TPL-007-4, Transmission System Planned Performance for Geomagnetic Disturbance Events.

OMB Control No.: 1902-0264.

Type of Request: Revisions to the information collection, as discussed in Docket No. RD20-3-000.

Abstract: The proposed Reliability Standard TPL-007-4 requires owners and operators of the Bulk-Power System to conduct initial and on-going vulnerability assessments of the potential impact of defined geomagnetic disturbance events on Bulk- Power System equipment and the Bulk-Power System as a whole. Specifically, the Reliability Standard requires entities to develop corrective action plans for vulnerabilities identified through supplemental geomagnetic disturbance vulnerability assessments and requires entities to seek approval from the Electric Reliability Organization of any extensions of time for the completion of corrective action plan items.

On August 8, 2005, Congress enacted into law the Electricity Modernization Act of 2005, which is Title XII, Subtitle A, of the Energy Policy Act of 2005 (EPAct 2005).¹ EPAct 2005 added a new section 215 to the FPA, which required a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (codified at 16 U.S.C. 824o).

² 16 U.S.C. 824o(e)(3).

On February 3, 2006, the Commission issued Order No. 672, implementing section 215 of the FPA.³ Pursuant to Order No. 672, the Commission certified one organization, North American Electric Reliability Corporation (NERC), as the ERO.⁴ The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. 31,204, order on reh'g, Order No. 672-A, FERC Stats. & Regs. 31,212 (2006).

⁴ North American Electric Reliability Corp., 116 FERC ¶ 61,062, order on reh'g and compliance, 117 FERC 61,126 (2006), order on compliance, 118 FERC 61,190, order on reh'g, 119 FERC 61,046 (2007), aff'd sub nom. Alcoa Inc. v. FERC, 564 F.3d 1342 (D.C. Cir. 2009).

On February 7, 2020, the North American Electric Reliability Corporation filed a petition seeking approval of proposed Reliability Standard TPL-007-4 (Transmission System Planned Performance for Geomagnetic Disturbance Events).

NERC's filed petition was noticed on February 11, 2020, with interventions, comments and protests due on or before March 9, 2020. No interventions or comments were received.

The DLO was issued on March 19, 2020. The standard goes in effect at NERC on October 1, 2020.

On April 16, 2020, the Commission published a Notice in the Federal Register in Docket No. RD20-3-000 requesting public comments. The Commission received no public comment(s) which is addressed here and in the related submittal to OMB.

Type of Respondents: Generator Owner, Planning Coordinator, Distribution Provider and Transmission Owners.

Estimate of Annual Burden: ⁵ Our estimates are based on the NERC Compliance Registry Summary of Entities as of January 31, 2020.

⁵ Burden is defined as the total time, effort, or financial resources expended by persons to generate, maintain, retain, or disclose or provide information to or for a federal agency. See 5 CFR 1320 for additional information on the definition of information collection burden.

The individual burden estimates include the time needed to gather data, run studies, and analyze study results. These are consistent with estimates for similar tasks in other Commission-approved standards. Estimates for the additional average annual burden and cost ⁶ as proposed in Docket No. RD20-3-000 follow:

⁶ Commission staff estimates that the industry's skill set and cost (for wages and benefits) for FERC-725N(1) are approximately the same as the Commission's average cost. The FERC 2019 average salary plus benefits for one FERC full-time equivalent (FTE) is $167,091/year (or $80.00/hour).

FERC-725N in Docket No. RD20-3-000
| Annual number ¹ of respondents | Annual number of responses per respondent | Total number of responses | Average burden hrs. & Cost ($) per response | Total annual burden hours & cost ($) (rounded) | Cost per respondent ($)
| (1) | (2) | (1) * (2) = (3) | (4) | (3) * (4) = (5) | (5) ÷ (1)
GO ⁷ | 969 | 1 | 969 | 40 hours; $3,200 | 38,760 hours; $3,100,800 | $3,200
PC ⁸ | 71 | 1 | 71 | 40 hours; $3,200 | 2,840 hours; $ 227,200 | 3,200
DP ⁹ | 318 | 1 | 318 | 40 hours & $3,200 | 12,720 hours; $1,017,600 | 3,200
TO ¹⁰ | 321 | 1 | 321 | 40 hours & $3,200 | 12,840 hours; $1,027,200 | 3,200
Total |  |  | 1,679 |  | 67,160 hours; $5,372,800 |

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

⁷ Generator Owner.

⁸ Planning Coordinator.

⁹ Distribution Provider.

¹⁰ Transmission Owner.

Dated: June 30, 2020.
Kimberly D. Bose,
Secretary.

[FR Doc. 2020-14533 Filed 7-6-20; 8:45 am]

BILLING CODE 6717-01-P